DEPARTMENT OF LABOR

Employment and Training Administration

[TA-W-55,261]

Sony Electronics, Inc., AOEM Service Center, Farmington Hills, MI; Notice of Affirmative Determination Regarding Application for Reconsideration

By application of August 30, 2004, the company official requested administrative reconsideration of the Department of Labor's Notice of Negative Determination Regarding Eligibility to Apply for Worker Adjustment Assistance, applicable to workers of the subject firm. The negative determination was issued on August 11, 2004. The determination Notice was published in the Federal Register on September 8, 2004 (69 FR 54320). A corrected copy of the determination was issued on September 30, 2004 and will soon be published in the Federal Register.

The Department has reviewed the request for reconsideration and has determined that the petitioner has provided additional information regarding work performed by the subject worker group.

Conclusion

After careful review of the application, I conclude that the claim is of sufficient weight to justify reconsideration of the Department of Labor's prior decision. The application is, therefore, granted.

Signed at Washington, DC, this 7th day of October 2004.
Elliott S. Kushner,
Certifying Officer, Division of Trade Adjustment Assistance.

[FR Doc. E4-2812 Filed 10-22-04; 8:45 am]

BILLING CODE 4510-30-P